DEPARTMENT OF THE INTERIOR

National Park Service

[NPS-WASO-NRNHL-19864; PPWOCRADI0, PCU00RP14.R50000]

National Register of Historic Places; Notification of Pending Nominations and Related Actions

AGENCY: National Park Service, Interior.

ACTION: Notice.

SUMMARY: The National Park Service is soliciting comments on the significance of properties nominated before November 21, 2015, for listing or related actions in the National Register of Historic Places.

DATES: Comments should be submitted by January 8, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before November 21, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

AMERICAN SAMOA

Eastern District

Malaeloa Olo, 1.5 mi. N. of jct. of Malaeloa Rd. & AS 001, Malaeloa Itu'au, 15000949

CALIFORNIA

San Francisco County

San Francisco Art Institute, 800 Chestnut St., San Francisco, 15000950

IOWA

Cedar County

Hardacre Theater, (Movie Theaters of Iowa MPS) 112 E. 5th St., Tipton, 15000951

Linn County

Lisbon Methodist Church, 200 E. Market St., Lisbon, 15000952

NEW YORK

Columbia County

Tracy Memorial Village Hall Complex, 77 Main St., Chatham, 15000953

Rensselaer County

Patten, Jacob H., House, 254 4th Ave., Troy, 15000954

NORTH CAROLINA

Columbus County

Culbreth, Dr. Neil and Nancy Elizabeth, House, 251 Washington St., Whiteville, 15000955

Craven County

New Bern Historic District (Boundary Increase II), Bounded by Roundtree, Oak, W. F, W. A, N. Bern, Bern, Nunn & Cedar Sts., New Bern, 15000956

Hertford County

Mill Neck School, 123 Mill Neck Rd., Como, 15000957

UTAH

Summit County

Archie Creek Camp, (Tie Cutting Industry of the North Slope of the Uinta Mountains MPS) Address Restricted, South Jordan, 15000958

Park City High School, 1255 Park Ave., Park City, 15000959

Utah County

Barrett—Homer—Larsen Farmstead, (Orem, Utah MPS) 63 N. 400 West, Orem, 15000960

VERMONT

Washington County

Aldrich Public Library, 6 Washington St., Barre, 15000961

VIRGINIA

Richmond Independent City

Wicker Apartments, 3905-4213 Chamberlain Ave., 4210-4232 Old Brook Rd., Richmond (Independent City), 15000962

Winchester Independent City

Winchester Historic District (Boundary Increase III), Amherst, Boscawen, Gerrard, Pall Mall & Stewart Sts., Winchester (Independent City), 15000963

A request for removal has been received for the following resources:

LOUISIANA

East Carroll Parish

Buckmeadow Plantation House, NW. of Lake Providence off LA 2, Lake Providence, 83000503

Natchitoches Parish

Cloutier, Alexis, House, Main St., Cloutierville, 74000927

Rapides Parish

Rapides Opera House, 1125 3rd St., Alexandria, 81000298

Authority: 60.13 of 36 CFR part 60.

Dated: November 24, 2015.
J. Paul Loether,
Chief, National Register of Historic Places/National Historic Landmarks Program.

[FR Doc. 2015-32375 Filed 12-23-15; 8:45 am]

BILLING CODE 4312-51-P